DEPARTMENT OF TRANSPORTATION

Office of the Secretary

Application of Inter Island Airways, Inc. d/b/a Inter Island Air for Commuter Authority

AGENCY: Department of Transportation.

ACTION: Notice of Order to Show Cause (Order 2007-6-14), Docket OST-2007-26807.

SUMMARY: The Department of Transportation is directing all interested persons to show cause why it should not issue an order finding Inter Island Airways, Inc. d/b/a Inter Island Air fit, willing, and able, and awarding it Commuter Air Carrier Authorization.

DATES: Persons wishing to file objections should do so no later than July 3, 2007.

ADDRESSES: Objections and answers to objections should be filed in Docket OST-2007-26807 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room 6401), U.S. Department of Transportation, 400 Seventh Street, SW., Washington, DC 20590, (202) 366-7785.

Dated: June 19, 2007.
Andrew B. Steineberg,
Assistant Secretary for Aviation and International Affairs.

[FR Doc. E7-12339 Filed 6-25-07; 8:45 am]

BILLING CODE 4910-9X-P